DEPARTMENT OF JUSTICE

Bureau of Alcohol, Tobacco, Firearms and Explosives

[OMB Number 1140-0080]

Agency Information Collection Activities; Proposed Collection; Comments Requested: Notification of Change of Mailing or Premise Address

Correction

In notice document 2013-18010 beginning on page 45275 of the issue of Friday, July 26, 2013 make the following correction:

In the second column, beginning on the eleventh line, “[insert the date 60 days from the date this notice is published in the Federal Register]” should read “September 24, 2013”.

[FR Doc. C1-2013-18010 Filed 8-8-13; 8:45 am]

BILLING CODE 1505-01-D